SUSQUEHANNA RIVER BASIN COMMISSION

Actions Taken at September 10, 2015, Meeting

AGENCY: Susquehanna River Basin Commission.

ACTION: Notice.

SUMMARY: As part of its regular business meeting held on September 10, 2015, in Binghamton, New York, the Commission took the following actions: (1) Approved or tabled the applications of certain water resources projects; (2) approved a request from Panda Power Funds for transfer of ownership of Hummel Station LLC; (3) accepted a settlement in lieu of penalty from Downs Racing L.P.; and (4) took additional actions, as set forth in the SUPPLEMENTARY INFORMATION below.

DATES: September 10, 2015.

ADDRESSES: Susquehanna River Basin Commission, 4423 N. Front Street, Harrisburg, PA 17110-1788.

FOR FURTHER INFORMATION CONTACT: Jason E. Oyler, General Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) Adoption of revisions to Resolution No. 2013-11; (2) release of proposed rulemaking to address shortcomings in the rules for transfer of approvals, create a category for minor modifications, establish a procedure for issuing general permits, and address other minor enhancements; (3) adoption of amendment of the Comprehensive Plan for the Water Resources of the Susquehanna River Basin; (5) approval of grants; (6) a report on delegated settlements with the following project sponsors, pursuant to SRBC Resolution 2014-15: Aqua Pennsylvania, Inc., in the amount of $6,000; Conyngham Borough Authority, in the amount of $5,000; Keister Miller Investments, LLC, in the amount of $2,000; Susquehanna Gas Field Services, LLC, in the amount of $2,500; and Wynding Brook, Inc. d/b/a Wynding Brook Golf Club, in the amount of $5,000; and (7) approval to extend the term of emergency certificates with Aqua Pennsylvania, Inc. to September 1, 2016, and with Furman Foods, Inc. to December 3, 2015.

Compliance Matter

The Commission approved a settlement in lieu of civil penalty for the following project:

1. Downs Racing L.P., Plains Township, Luzerne County, Pa.—$25,000.

Project Applications Approved

The Commission approved the following project applications:

1. Project Sponsor and Facility: Caernarvon Township Authority, Caernarvon Township, Berks County, Pa. Groundwater withdrawal of up to 0.673 mgd (30-day average) from Well 7.

2. Project Sponsor and Facility: Chetremon Golf Course, LLC, Burnside Township, Clearfield County, Pa. Consumptive water use of up to 0.200 mgd (peak day).

3. Project Sponsor and Facility: Chetremon Golf Course, LLC (Irrigation Storage Pond), Burnside Township, Clearfield County, Pa. Surface water withdrawal of up to 0.200 mgd (peak day).

4. Project Sponsor and Facility: Chief Oil & Gas LLC (Loyalsock Creek), Forksville Borough, Sullivan County, Pa. Surface water withdrawal of up to 1.500 mgd (peak day).

5. Project Sponsor and Facility: JELD-WEN, inc. Fiber Division—PA, Wysox Township, Bradford County, Pa. Groundwater withdrawal of up to 0.252 mgd (30-day average) from Well 1.

6. Project Sponsor and Facility: JELD-WEN, inc. Fiber Division—PA, Wysox Township, Bradford County, Pa. Groundwater withdrawal of up to 0.252 mgd (30-day average) from Well 4.

7. Project Sponsor and Facility: JELD-WEN, inc. Fiber Division—PA, Wysox Township, Bradford County, Pa. Groundwater withdrawal of up to 0.323 mgd (30-day average) from Well 5.

8. Project Sponsor and Facility: JELD-WEN, inc. Fiber Division—PA, Wysox Township, Bradford County, Pa. Groundwater withdrawal of up to 0.323 mgd (30-day average) from Well 6.

9. Project Sponsor and Facility: JELD-WEN, inc. Fiber Division—PA, Wysox Township, Bradford County, Pa. Groundwater withdrawal of up to 0.345 mgd (30-day average) from Well 7.

10. Project Sponsor and Facility: JELD-WEN, inc. Fiber Division—PA, Wysox Township, Bradford County, Pa. Consumptive water use of up to 0.499 mgd (peak day).

11. Project Sponsor and Facility: Keister Miller Investments, LLC (West Branch Susquehanna River), Mahaffey Borough, Clearfield County, Pa. Surface water withdrawal of up to 1.000 mgd (peak day).

12. Project Sponsor and Facility: Lycoming County Water and Sewer Authority, Fairfield Township, Lycoming County, Pa. Groundwater withdrawal of up to 0.180 mgd (30-day average) from Production Well 3.

13. Project Sponsor and Facility: Moxie Freedom LLC, Salem Township, Luzerne County, Pa. Consumptive water use of up to 0.092 mgd (peak day).

14. Project Sponsor and Facility: Moxie Freedom LLC, Salem Township, Luzerne County, Pa. Groundwater withdrawal of up to 0.062 mgd (30-day average) from Production Well 1.

15. Project Sponsor and Facility: Seneca Resources Corporation (Marsh Creek), Delmar Township, Tioga County, Pa. Renewal of surface water withdrawal of up to 0.499 mgd (peak day) (Docket No. 20110907).

16. Project Sponsor and Facility: Shrewsbury Borough, York County, Pa. Renewal and modification to increase groundwater withdrawal by an additional 0.024 mgd (30-day average), for a total of up to 0.089 mgd (30-day average) from the Blouse Well (Docket No. 19820103).

17. Project Sponsor and Facility: Shrewsbury Borough, York County, Pa. Renewal of groundwater withdrawal of up to 0.099 mgd (30-day average) from the Smith Well (Docket No. 19811203).

18. Project Sponsor and Facility: Talisman Energy USA Inc. (Wappasening Creek), Windham Township, Bradford County, Pa. Renewal of surface water withdrawal of up to 1.000 mgd (peak day) (Docket No. 20110621).

19. Project Sponsor: UGI Development Company. Project Facility: Hunlock Creek Energy Center, Hunlock Township, Luzerne County, Pa. Modification to increase consumptive water use by an additional 1.526 mgd (peak day), for a total of up to 2.396 mgd (peak day) (Docket No. 20090916).

20. Project Sponsor and Facility: XTO Energy, Inc. (West Branch Susquehanna River), Chapman Township, Clinton County, Pa. Renewal of surface water withdrawal of up to 2.000 mgd (peak day) (Docket No. 20110911).

Project Applications Tabled

The Commission tabled action on the following project applications:

1. Project Sponsor and Facility: Furman Foods, Inc., Point Township, Northumberland County, Pa. Application for renewal of groundwater withdrawal of up to 0.320 mgd (30-day average) from Well 1 (Docket No. 19850901).

2. Project Sponsor and Facility: Furman Foods, Inc., Point Township, Northumberland County, Pa. Application for renewal of groundwater withdrawal of up to 0.190 mgd (30-day average) from Well 4 (Docket No. 19850901).

3. Project Sponsor and Facility: Furman Foods, Inc., Point Township, Northumberland County, Pa. Application for renewal of groundwater withdrawal of up to 0.090 mgd (30-day average) from Well 7 (Docket No. 19850901).

4. Project Sponsor: Pennsylvania Department of Environmental Protection, Bureau of Conservation and Restoration. Project Facility: Cresson Mine Drainage Treatment Plant, Cresson Borough, Cambria County, Pa. Application for groundwater withdrawal from Argyle Stone Bridge Well for inclusion in treatment of up to 6.300 mgd (30-day average) from four sources.

5. Project Sponsor: Pennsylvania Department of Environmental Protection, Bureau of Conservation and Restoration. Project Facility: Cresson Mine Drainage Treatment Plant, Cresson Township, Cambria County, Pa. Application for groundwater withdrawal from Cresson No. 9 Well for inclusion in treatment of up to 6.300 mgd (30-day average) from four sources.

6. Project Sponsor: Pennsylvania Department of Environmental Protection, Bureau of Conservation and Restoration. Project Facility: Cresson Mine Drainage Treatment Plant, Gallitzin Township, Cambria County, Pa. Application for groundwater withdrawal from Gallitzin Shaft Well 2A (Gallitzin Shaft #2) for inclusion in treatment of up to 6.300 mgd (30-day average) from four sources.

7. Project Sponsor: Pennsylvania Department of Environmental Protection, Bureau of Conservation and Restoration. Project Facility: Cresson Mine Drainage Treatment Plant, Gallitzin Township, Cambria County, Pa. Application for groundwater withdrawal from Gallitzin Shaft Well 2B (Gallitzin Shaft #1) for inclusion in treatment of up to 6.300 mgd (30-day average) from four sources.

8. Project Sponsor and Facility: SWN Production Company, LLC (Tioga River), Hamilton Township, Tioga County, Pa. Application for surface water withdrawal of up to 2.000 mgd (peak day).

Request for Conditional Transfer Approved

The Commission approved the following request for conditional transfer:

1. Panda Power Funds request for transfer of ownership of Hummel Station LLC (Docket Nos. 20081222 and 20081222-2). Transferred dockets will include modification of conditions requiring mitigation of all consumptively used water.

Authority: Pub. L. 91-575, 84 Stat. 1509 et seq., 18 CFR parts 806, 807, and 808.

Dated: September 22, 2015.
Stephanie L. Richardson,
Secretary to the Commission.

[FR Doc. 2015-24513 Filed 9-25-15; 8:45 am]

BILLING CODE 7040-01-P